FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 201144.

Title: ILWU/PMA Marine Clerk Opportunity Assessment Agreement.

Parties: Members of the Pacific Maritime Association.

Synopsis: The agreement provides the basis for the assessment under the Pacific Coast Clerks' Contract Document.

Agreement No.: 011848-001.

Title: WWL/K-Line Transatlantic Space Charter Agreement.

Parties: Wallenius Wilhelmsen Lines AS Kawasaki Kisen Kaisha, Ltd.

Synopsis: The proposed agreement modification clarifies the authority contained in Articles 5.4 and 5.5. It further changes the notice period for withdrawal from the agreement.

Agreement No.: 011856.

Title: SCM Lines Caribbean Feeder Services, Ltd./Evergreen Marine Corp. Space Charter Agreement.

Parties: SCM Lines Caribbean Feeder Services, Ltd. (“SCM Lines”) Evergreen Marine Corp. (“Evergreen”).

Synopsis: The proposed agreement would enable Evergreen to take from one to 250 TEUs on SCM Lines' vessels on an “as available” basis between ports in the Caribbean, South America, and Central America and U.S. East Coast and Gulf Coast ports. The parties request expedited review.

Agreement No.: 201103-002.

Title: ILWU/PMA Agreement.

Parties: Members of the Pacific Maritime Association.

Synopsis: The agreement amendment changes the basis for the man-hour and tonnage assessment rates. The agreement continues to run for an indefinite period.

By Order of the Federal Maritime Commission.
Dated: June 6, 2003.
Bryant L. VanBrakle,
Secretary.

[FR Doc. 03-14805 Filed 6-10-03; 8:45 am]

BILLING CODE 6730-01-P